DEPARTMENT OF AGRICULTURE

Submission for OMB Review; Comment Request

February 19, 2019.

The Department of Agriculture has submitted the following information collection requirement(s) to OMB for review and clearance under the Paperwork Reduction Act of 1995, Public Law 104-13. Comments are requested regarding (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding this information collection received by March 27, 2019 will be considered. Written comments should be addressed to: Desk Officer for Agriculture, Office of Information and Regulatory Affairs, Office of Management and Budget (OMB), New Executive Office Building, 725 17th Street NW, Washington, DC 20502. Commenters are encouraged to submit their comments to OMB via email to: OIRA_Submission@OMB.EOP.GOV or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food Safety and Inspection Service

Title: Stakeholder Input on Federal outreach to Control Listeria Monocytogenes at Retail.

OMB Control Number: 0583-New.

Summary of Collection: The Food Safety and Inspection Service (FSIS) has been delegated the authority to exercise the functions of the Secretary as provided in the Federal Meat Inspection Act (FMIA) (21 U.S.C. 601 et seq.), the Poultry Product Inspection Act (PPIA) (21 U.S.C. 451 et seq.), and the Egg Products Inspection Act (EPIA) (21 U.S.C. 1031 et seq.). These statutes mandate that FSIS protect the public by verifying that meat products are safe, wholesome, unadulterated, and properly labeled and packaged. FSIS intends to collect information from stakeholders from industry, State and public health and agriculture departments with responsibilities for retail food safety, local health departments, and grocers to gather information on FSIS outreach efforts related to retain best practices to control Listeria monocytogenes (Lm) in retail delicatessens.

Need and Use of the Information: The purpose of this information collection is to enhance Federal outreach and interagency coordination to control Lm at retail. To gather feedback to enhance Federal outreach and interagency coordination to control Lm at retail, FSIS, in collaboration with the Food and Drug Administration (FDA) and the Centers for Disease Control and Prevention (CDC) will conduct focus groups with a sample of stakeholders from industry, state and local public health and agriculture departments, and retail delicatessens. In the focus groups, sample of stakeholders will be invited to provide input on the awareness and usefulness of existing outreach materials and tools related to best practices for controlling Lm in delicatessens, how they currently receive this type of information (e.g. from FSIS, FSA, CDC, State Health department, Cooperative Extension), and how those channels of communication could be improved.

Description of Respondents: Business or other for-profit; Individuals or households; State, Local or Tribal Government.

Number of Respondents: 240.

Frequency of Responses: Reporting: On occasions.

Total Burden Hours: 271.

Ruth Brown,
Departmental Information Collection Clearance Officer.

[FR Doc. 2019-03133 Filed 2-22-19; 8:45 am]

BILLING CODE 3410-DM-P